COUNCIL ON ENVIRONMENTAL QUALITY

Environmental Management Systems and the National Environmental Policy Act

AGENCY: Council on Environmental Quality.

ACTION: Notice and Request for Comments.

SUMMARY: The Council on Environmental Quality (CEQ) used an interagency work group to develop a guide to Federal agencies in aligning their Environmental Management Systems (EMS) with the National Environmental Policy Act (NEPA). CEQ invites comments on the proposed guide before publishing and distributing a final guide. The proposed guide, “Aligning the Complementary Processes of Environmental Management Systems and the National Environmental Policy Act”, is available at www.nepa.gov in the Current Developments section.

DATES: Written comments should be submitted on or before September 1, 2006.

ADDRESSES: Hardcopies of the proposed guide can be requested from CEQ. Electronic or facsimile requests for a copy of the proposed guide and comments on the proposed guide are preferred because federal offices experience intermittent mail delays from security screening. Electronic requests and written comments can be sent to NEPA modernization (EMS-NEPA) at horst_greczmiel@ceq.eop.gov. Written requests and comments may be faxed to NEPA Modernization (EMS-NEPA) at (202) 456-0753. Written requests and comments may also be submitted to NEPA Modernization (EMS-NEPA), Attn: Associate Director for NEPA Oversight, 722 Jackson Place NW, Washington DC 20503.

FOR FURTHER INFORMATION CONTACT: Horst Greczmiel at (202) 395-5750.

SUPPLEMENTARY INFORMATION: The Council on Environmental Quality (CEQ) established a National Environmental Policy Act (NEPA) Task Force and is now implementing recommendations designed to modernize the implementation of NEPA and make the NEPA process more effective and efficient. Additional information is available on the task force Web site at http://ceq.eh.doe.gov/ntf.

A guide, “Aligning the Complementary Processes of Environmental Management Systems and the National Environmental Policy Act”, was developed to assist agencies with linking the NEPA process with Environmental Management Systems (EMS) and CEQ requests public input and comments on the proposed guide available at www.NEPA.gov and from CEQ (see ADDRESSES).

The guide will be provided to all Federal agencies to help Federal agencies recognize the complementary relationship of EMS and NEPA and to assist them in aligning EMS elements with the NEPA statement of policy in Section 101 and the analysis and decision processes of Section 102 and incorporating the EMS approach into the NEPA process when establishing, implementing, and maintaining their EMS. CEQ recognizes the benefits of aligning these complementary processes and encourages Federal agencies to do so where appropriate.

The guide states that it is conceivable that a well constructed EMS can include all the elements of the NEPA process and serve as the basis for complying with NEPA requirements. CEQ specifically solicits public comment on this idea.

The guide encourages the integration of EMS and NEPA as a means to bring substantial benefits to an agency's environmental performance and to further our national environmental policy. For example:

Commitments and mitigation measures established in NEPA decision documents (e.g., Findings of No Significant Impact and Records of Decision) can be implemented, tracked and monitored through the EMS because the EMS provides a framework to improve environmental performance in ongoing day-to-day operations. The implementation, tracking and monitoring of commitments and mitigation measures can assist in training, internal auditing, identification of appropriate corrective actions and communication with interested parties.

A major component of the NEPA process is communicating and involving the interested public. An EMS can provide numerous opportunities for communicating with the public and serve a major role in providing information about the proposal under consideration and thereby help focus the public involvement.

The guide also describes specific ways EMS and NEPA processes can complement one another to improve how Federal agencies manage their impacts on the environment:

• The NEPA process generally approaches environmental management decisions on a case-by-case basis, and mainly focuses on identifying and mitigating “significant” environmental impacts. An EMS addresses the full range of ongoing activities (and products and services) the agency has decided to implement with the intent to continually improve environmental performance by minimizing the adverse effects of its environmental aspects.

• The identification of environmental aspects in the development of an EMS can build on the environmental aspects identified in a previous NEPA analysis of a facility, activity, program or policy. Conversely, a new NEPA analysis can consider the identified environmental aspects in an EMS when assessing potential environmental impacts of a proposed action. The EMS can provide a platform for using the information collected and analyses performed in the NEPA process on a going forward basis in the actual implementation of proposed actions.

• The performance measurements and monitoring conducted as part of an EMS may provide comparable and verifiable data to improve environmental impact predictions in an environmental assessment (EA) or environmental impact statement (EIS).

• An EMS provides a systematic framework for an agency to monitor and continually improve its environmental performance. Agencies with an EMS may be able to use data generated through their EMS to establish a record of environmental performance to support, for example (a) identifying categories of actions that normally require an EIS, (b) finding no significant impact when incorporated into an EA, which would preclude the need to prepare an EIS, or (c) establishing a categorical exclusion under NEPA which would reduce the need to prepare EAs. Further, where an EIS is needed, the EMS approach of keeping environmental data up-to-date should facilitate the preparation of an EIS.

• Where an EMS has established environmental objectives and targets relevant to resource areas subject to NEPA mitigation measures, the EMS can ensure implementation and performance of mitigation measures through applicable measurement and monitoring programs.

• An EMS can support the implementation of a NEPA “adaptive management” approach when there are uncertainties in the prediction of the impacts or outcome of project implementation, or the effectiveness of proposed mitigation. The adaptive management approach can provide managers with the flexibility to make necessary corrections or adjustments in project implementation, possible without needing new or supplemental NEPA analyses.

Public comments are requested on or before September 1, 2006.

Dated: July 12, 2006.
James L. Connaughton,
Chairman, Council on Environmental Quality.

[FR Doc. 06-6251 Filed 7-14-06; 8:45 am]

BILLING CODE 3125-01-M